DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based upon the petitioner's statements, comments and information submitted by interested persons, and a field investigation of the conditions at the mine. MSHA, as designee of the Secretary, has granted or partially granted the requests for modification listed below. In some instances, the decisions are conditioned upon compliance with stipulations stated in the decision. The term “FR Notice” appears in the list of affirmative decisions below. The term refers to the Federal Register volume and page where MSHA published a notice of the filing of the petition for modification.

FOR FURTHER INFORMATION: Petitions and copies of the final decisions are available for examination by the public in the Office of Standards, Regulations, and Variances, MSHA, Room 627, 4015 Wilson Boulevard, Arlington, Virginia 22203. Contact Barbara Barron at 703-235-1910.

Dated at Arlington, Virginia this 10th day of December 2001.
David L. Meyer,
Director, Office of Standards, Regulations, and Variances, Enclosures.

Affirmative Decisions on Petitions for Modification

Docket No.: M-2000-104-C.

FR Notice: 65 FR 58819.

Petitioner: West Ridge Resources, Inc.

Regulation Affected: 30 CFR 75.901

Summary of Findings: The petitioner's proposal is to use an alternative method of grounding a diesel generator. The petitioner proposes to use a 480-volt, wye connected, 320 KW portable diesel powered generator for utility power and to move electrically powered mining equipment in and around the mine. This is considered an acceptable alternative method for the West Ridge Mine. MSHA grants the petition for modification for the 480-volt, three-phase, 320KW diesel powered generator (DPG) set, Serial No. 31545, used to supply power to a 400 KVA autotransformer and three-phase 480- and 995-volt power circuits for the West Ridge Mine with conditions.

Docket No.: M-2000-113-C.

FR Notice: 65 FR 58820.

Petitioner: Blue Mountain Energy, Inc.

Regulation Affected: 30 CFR 75.350.

Summary of Findings: Petitioner's proposal is to use air coursed through conveyor belt entries to ventilate working places. The petitioner proposes to install a carbon monoxide monitoring system as an early warning fire detection system in all belt entries used to course intake air to a working place. This is considered an acceptable alternative method for the Deserado Mine. MSHA grants the petition for modification for the Deserado Mine with conditions.

Docket No.: M-2000-118-C.

FR Notice: 65 FR 58821.

Petitioner: West Ridge Resources, Inc.

Regulation Affected: 30 CFR 75.1002-1(a)

Summary of Findings: Petitioner's proposal is to use nonpermissible low-voltage or battery-powered electronic testing and diagnostic equipment within 150 feet of pillow workings, and limited to laptop computers, oscilloscopes, vibration analysis machines, cable fault detectors, point temperature probes, infrared temperature devices and recorders, pressures and flow measurements devices, signal analyzer devices, ultrasonic thickness gauges, electronic component testers, and electronic tachometers. Other testing and diagnostic equipment may be used if approved by the District Manager. This is considered an acceptable alternative method for the West Ridge Mine. MSHA grants the petition for modification for the use of low-voltage or battery-powered nonpermissible electronic testing and diagnostic equipment within 150 feet of pillar workings at the West Ridge Mine with conditions.

Docket No.: M-2000-125-C.

FR Notice: 65 FR 64261.

Petitioner: Snyder Coal Company.

Regulation Affected: 30 CFR 75.1405.

Summary of Findings: The petitioner's proposal is to use bar and pin or link and pin couplers on underground haulage equipment. This is considered an acceptable alternative method for the Rattling Run Slope Mine. MSHA grants the petition for modification for the Rattling Run Slope Mine with conditions.

Docket No.: M-2000-126-C.

FR Notice: 65 FR 64261.

Petitioner: Three W-M Coal Company.

Regulation Affected: 75.1400(c).

Summary of Findings: The petitioner's proposal is to use stronger rope and secondary safety rope connections in place of safety catches or other no less effective devices on a slope conveyance (gunboat) in transporting persons. This is considered an acceptable alternative method for the Orchard Slope Mine. MSHA grants the petition for modification for the Orchard Slope Mine with conditions.

Docket No.: M-2000-128-C.

FR Notice: 65 FR 64261.

Petitioner: Girdner Mining Company, Inc.

Regulation Affected: 30 CFR 75.380(f)(4)(i).

Summary of Findings: The petitioner's proposal is to use one twenty-or two ten-pound portable chemical fire extinguishers on each Mescher Jeep, to have the fire extinguishers readily accessible to the equipment operator, to instruct the equipment operator to inspect each fire extinguisher on a daily basis and replace all defective fire extinguishers prior to entering the mine, and to maintain records of all inspections. This is considered an acceptable alternative method for the Mine No. 1. MSHA grants the petition for modification for the Mine No. 1 with conditions.

Docket No.: M-2000-131-C.

FR Notice: 65 FR 64262.

Petitioner: Mountain Coal Company, L.L.C.

Regulation Affected: 30 CFR 75.1002.

Summary of Findings: The petitioner's proposal is to use high-voltage (2,400-volt) cables within 150 feet of pillar workings for continuous miners. This is considered an acceptable alternative method for the West Elk Mine. MSHA grants the petition for modification for the West Elk Mine with conditions.

Docket No.: M-2000-134-C.

FR Notice: 65 FR 64262.

Petitioner: Aracoma Coal Company.

Regulation Affected: 30 CFR 75.1002.

Summary of Findings: The petitioner's proposal is to use 4,160-volt longwall mining system. This is considered an acceptable alternative method for the Aracoma Alma Mine No. 1. MSHA grants the petition for modification for the Aracoma Alma Mine No. 1 with conditions.

Docket No.: M-2000-139-C.

FR Notice: 65 FR 75974.

Petitioner: R & R Coal Company.

Regulation Affected: 30 CFR 75.335.

Summary of Findings: The petitioner's proposal is to use wooden materials of moderate size and weight to construct seals, due to the difficulty in accessing previously driven headings and breasts containing inaccessible abandoned workings. This is considered an acceptable alternative method for the R & R Coal Company Mine. MSHA grants the petition for modification for the R & R Coal Company Mine with conditions.

Docket No.: M-2001-140-C.

FR Notice: 65 FR 75974.

Petitioner: R & R Coal Company.

Regulation Affected: 30 CFR 75.1200(d) and (i).

Summary of Findings: The petitioner's proposal is to use cross-sections in lieu of contour lines, limiting the mapping of mines above or below this mine to those within 100 feet of the vein being mined. This is considered an acceptable alternative method for the R & R Coal Company Mine. MSHA grants the petition for modification for the R & R Coal Company Mine with conditions.

Docket No.: M-2001-141-C.

FR Notice: 65 FR 75974.

Petitioner: R & R Coal Company.

Regulation Affected: 30 CFR 75.1202-1(a).

Summary of Findings: The petitioner's proposal is to revise and supplement mine maps annually instead of every six (6) months, and to update the maps daily by hand notations. This is considered an acceptable alternative method for the R & R Coal Company Mine. MSHA grants the petition for modification for the R & R Coal Company Mine with conditions.

Docket No.: M-2000-148-C.

FR Notice: 65 FR 75975.

Petitioner: D & F Deep Mine Buck Drift.

Regulation Affected: 30 CFR 49.2(b).

Summary of Findings: The petitioner's proposal is to reduce its mine rescue teams to two teams with three members and one alternate for either team instead of two teams with five members and one alternate each. This is considered an acceptable alternative method for the Buck Drift Mine. MSHA grants the petition for modification for the Buck Drift Mine with conditions.

Docket No.: M-2000-149-C.

FR Notice: 65 FR 75975.

Petitioner: D & F Deep Mine Buck Drift.

Regulation Affected: 30 CFR 75.335(a)(1).

Summary of Findings: The petitioner's proposal is to use wooden materials of moderate size and weight to construct seals due to the difficulty in accessing previously driven headings and breasts containing inaccessible abandoned workings. This is considered an acceptable alternative method for the Buck Drift Mine. MSHA grants the petition for modification for the Buck Drift Mine with conditions.

Docket No.: M-2001-151-C.

FR Notice: 65 FR 75975.

Petitioner: D & F Deep Mine Buck Drift.

Regulation Affected: 30 CFR 75.1200(d) and (i).

Summary of Findings: The petitioner's proposal is to use cross-sections in lieu of contour lines, limiting the mapping of mines above or below this mine to those within 100 feet of the vein being mined. This is considered an acceptable alternative method for the Buck Drift Mine. MSHA grants the petition for modification for the Buck Drift Mine with conditions.

Docket No.: M-2000-152-C.

FR Notice: 65 FR 75975.

Petitioner: D & F Deep Mine Buck Drift.

Regulation Affected: 30 CFR 75.1202-1(a).

Summary of Findings: The petitioner's proposal is to revise and supplement mine maps annually instead of every six(6) months, and update the maps daily by hand notations. This is considered an acceptable alternative method for the Buck Drift Mine. MSHA grants the petition for modification for the Buck Drift Mine with conditions.

Docket No.: M-2000-154-C.

FR Notice: 65 FR 75976.

Petitioner: Canyon Fuel Company, LLC.

Regulation Affected: 30 CFR 75.350.

Summary of Findings: The petitioner's proposal is to use belt air to ventilate active working places. This is considered an acceptable alternative method for the Skyline Mine No. 3. MSHA grants the petition for modification to allow air coursed through conveyor belt haulage entries to be used to ventilate working places at the Skyline Mine No. 3 with conditions.

Docket No.: M-2000-156-C.

FR Notice: 65 FR 75976.

Petitioner: Oxbow Carbon and Minerals, Inc.

Regulation Affected: 30 CFR 75.701.

Summary of Findings: The petitioner's proposal is to use an alternative method of grounding a diesel generator. The petitioner proposes to use a 480-volt, wye connected, 260 KW portable diesel powered generator for utility power and to move electrically powered mining equipment in and around the mine. This is considered an acceptable alternative method for the Sanborn Creek Mine. MSHA grants the petition for modification for the 480-volt, three-phase, 260KW/325KVA diesel powered generator (DPG) set, Serial No. 31475-1/01, used to supply power to a three-phase wye connected 300 KVA auto-transformer and three-phase 480-volt and 995-volt power circuits for the Sanborn Creek Mine with conditions.

Docket No.: M-2000-157-C.

FR Notice: 65 FR 75976.

Petitioner: Oxbow Carbon and Minerals, Inc.

Regulation Affected: 30 CFR 75.901.

Summary of Findings: The petitioner's proposal is to use an alternative method of grounding a diesel generator. The petitioner proposes to use a 480-volt, wye connected, 260 KW portable diesel powered generator for utility power and to move electrically powered mining equipment in and around the mine. This is considered an acceptable alternative method for the Sanborn Creek Mine. MSHA grants the petition for modification for the 480-volt, three-phase, 260KW/325KVA diesel powered generator (DPG) set, Serial No. 31475-1/01, used to supply power to a three-phase wye connected 300 KVA transformer and three-phase 480-volt and 995-volt power circuits for the Sanborn Creek Mine with conditions.

Docket No.: M-2000-158-C.

FR Notice: 66 FR 18660.

Petitioner: Newtown Energy, Inc.

Regulation Affected: 30 CFR 75.350.

Summary of Findings: The petitioner's proposal is to use belt air to ventilate active working places. The petitioner proposes to install a low-level carbon monoxide monitoring system as an early warning fire-detection system all belt entries used to course air to a working place. This is considered an acceptable alternative method for the Eagle Mine No. 1. MSHA grants the petition for modification to allow air coursed through conveyor belt entries to be used to ventilate working places for the Eagle Mine No. 1 with conditions.

Docket No.: M-2000-159-C.

FR Notice: 66 FR 18660.

Petitioner: G & P Contractors, Inc.

Regulation Affected: 30 CFR 75.380(f)(4)(i).

Summary of Findings: The petitioner's proposal is to use two ten-pound portable chemical fire extinguishers on each Mescher Jeep, to have the fire extinguishers readily accessible to the equipment operator, to instruct the equipment operator to inspect each fire extinguisher daily prior to entering the mine and replace all fire extinguishers that are defective. This is considered an acceptable alternative method for the Powers Branch Mine. MSHA grants the petition for modification for the Powers Branch Mine with conditions.

Docket No.: M-2000-160-C.

FR Notice: 66 FR 18660.

Petitioner: G & P Contractors, Inc.

Regulation Affected: 30 CFR 75.342.

Summary of Findings: The petitioner's proposal is to use hand-held methane and oxygen indicators instead of machine-mounted methane monitors on three-wheel tractors with drag bottom buckets. This is considered an acceptable alternative method for the Powers Branch Mine. MSHA grants the petition for modification to use hand-held continuous multi-gas detectors for the Mescher permissible three-wheel battery-powered tractors used to load coal at the Powers Branch Mine with conditions.

Docket No.: M-2000-161-C.

FR Notice: 66 FR 18660.

Petitioner: Rosebud Mining Company.

Regulation Affected: 30 CFR 75.1100-2(e)(2).

Summary of Findings: The petitioner's proposal is to use two (2) fire extinguishers or one fire extinguisher of twice the required capacity at all temporary electrical installations instead of using 240 pounds of rock dust. This is considered an acceptable alternative method for the Clementine Mine. MSHA grants the petition for modification for the temporary electrical installations provided the petitioner maintains two portable fire extinguishers having at least the minimum capacity specified for a portable fire extinguisher in 30 CFR 75.1100-1(e) at each of the temporary electrical installations for the Clementine Mine.

Docket No.: M-2001-162-C.

FR Notice: 66 FR 18660.

Petitioner: Penn American Coal L.P.

Regulation Affected: 30 CFR 75.350.

Summary of Findings: The petitioner's proposal is to use air ventilating the belt entry and associated entries in common with the belt, to ventilate a working section or sections. The petitioner proposes to install a carbon monoxide monitoring system as an early warning fire detection system in all belt entries used to ventilate active working places. This is considered an acceptable alternative method for the Burrell Mine. MSHA grants the petition for modification for the Burrell Mine with conditions.

Docket No.: M-2000-163-C.

FR Notice: 66 FR 18660.

Petitioner: T.J.S. Mining, Inc.

Regulation Affected: 30 CFR 75.1100-2(e)(2).

Summary of Findings: The petitioner's proposal is to use two (2) fire extinguishers or one fire extinguisher of twice the required capacity at all temporary electrical installations instead of using 240 pounds of rock dust. This is considered an acceptable alternative method for the T.J.S. #1 Mine, T.J.S. No. 4 Mine, Darmac #3 Mine, and Darmac #2 Mine. MSHA grants the petition for modification for the temporary electrical installations provided the Petitioner maintains two portable fire extinguishers having at least the minimum capacity specified for a portable fire extinguisher in 30 CFR 75.1100-1(e) at each of the temporary electrical installations for the T.J.S. #1 Mine, T.J.S. No. 4 Mine, Darmac #3 Mine, and Darmac #2 Mine.

Docket No.: M-2000-166-C.

FR Notice: 66 FR 18661.

Petitioner: Straight Fork Mining, Inc.

Regulation Affected: 30 CFR 75.503 (18.41(f) of Part 18).

Summary of Findings: The petitioner's proposal is to use a permanently installed spring-loaded device on mobile battery-powered equipment to prevent unintentional loosening of battery plugs from battery receptacles instead of using padlocks. This is considered an acceptable alternative method for the Skullfork Mine. MSHA grants the petition for modification for the Skullfork Mine with conditions.

Docket No.: M-2000-167-C.

FR Notice: 66 FR 18661.

Petitioner: Big Ridge, Inc.

Regulation Affected: 30 CFR 75.1700.

Summary of Findings: The petitioner's proposal is to plug oil and gas wells and then mine in close proximity or through the plugged wells using the specific procedures outlined in its petition for modification. This is considered an acceptable alternative method for the Willow Lake Portal Mine. MSHA grants the petition for modification for mining through or near (whenever the safety barrier diameter is reduced to a distance less than the District Manager would approve pursuant to Section 75.1700) plugged oil or gas wells penetrating the Illinois No. 5 seam and other minable coal seams at the Willow Lake Portal Mine with conditions.

Docket No.: M-2000-168-C.

FR Notice: 66 FR 18661.

Petitioner: D & R Coal Company, Inc.

Regulation Affected: 30 CFR 75.342.

Summary of Findings: The petitioner's proposal is to use hand-held, continuous-duty methane and oxygen indicators on three-wheel tractors with drag bottom buckets instead of using machine-mounted monitors. This is considered an acceptable alternative method for the Mine No. 2. MSHA grants the petition for modification for the Mescher permissible three-wheel battery-powered tractors used to load coal in the Mine No. 2 with conditions.

Docket No.: M-2000-169-C.

FR Notice: 66 FR 18661.

Petitioner: D & R Coal Company, Inc.

Regulation Affected: 30 CFR 75.380(f)(4)(i).

Summary of Findings: The petitioner's proposal is to install two five-pound or one ten-pound portable chemical fire extinguisher in the operator deck of each Mescher tractor, to have the fire extinguishers readily accessible to the equipment operator, to instruct the equipment operator to inspect each fire extinguisher on a daily basis and replace all defective fire extinguishers prior to entering the mine, and to maintain records of all inspections. This is considered an acceptable alternative method for the Mine No. 2. MSHA grants the petition for modification for Mescher three-wheel tractors to be operated in the primary intake escapeway at the Mine No. 2 with conditions.

Docket No.: M-2000-170-C.

FR Notice: 66 FR 9724.

Petitioner: Aracoma Coal Company.

Regulation Affected: 30 CFR 75.1700.

Summary of Findings: The petitioner's proposal is to plug and mine through oil or gas wells using the specific procedures outlined in this petition for modification. This is considered an acceptable alternative method for the Aracoma Alma Mine No. 1. MSHA grants the petition for modification for mining through or near (whenever the safety barrier diameter is reduced to a distance less than the District Manager would approve pursuant to Section 75.1700) plugged oil or gas wells penetrating the Alma Coal Seam and other minable coal seams at the Aracoma Alma Mine No. 1 with conditions.

Docket No.: M-2000-173-C.

FR Notice: 66 FR 18661.

Petitioner: Penn View Mining, Inc.

Regulation Affected: 30 CFR 75.1100-2(e)(2).

Summary of Findings: The petitioner's proposal is to use two (2) fire extinguishers or one fire extinguisher of twice the required capacity at all temporary electrical installations instead of using 240 pounds of rock dust. This is considered an acceptable alternative method for the Penn View Mine. MSHA grants the petition for modification for the temporary electrical installations provided the petitioner maintains two portable fire extinguishers having at least the minimum capacity specified for portable fire extinguisher in 30 CFR 75.1100-1(e) at each of the temporary electrical installations for the Penn View Mine with conditions.

Docket No.: M-1999-044-C.

FR Notice: 64 FR 32553.

Petitioner: Energy West Mining Company.

Regulation Affected: 30 CFR 75.326 (Now 75.350 and 75.352).

Summary of Findings: The petitioner's proposal is to amend the Decision and Order (D&O) for its previously granted petition for modification because the requirements in the previous D&O have proven to be outdated due to changes in circumstances that originally supported the terms and conditions of the D&O. This is considered an acceptable alternative method for the Deer Creek Mine. MSHA grants the petition for modification to the Deer Creek Mine for a two-entry mining system, based on compliance with the stipulations from the original D&O as modified and supplemented by additional special terms and conditions.

Docket No.: M-1999-046-C.

FR Notice: 64 FR 32554.

Petitioner: Twentymile Coal Company.

Regulation Affected: 30 CFR 75.500(d).

Summary of Findings: The petitioner's proposal is to use low-voltage or battery operated non-permissible electronic testing and diagnostic equipment into and inby the last open crosscut and in its continuous miner development sections. This is considered an acceptable alternative method for the Foidel Creek Mine. MSHA grants the petition for modification, under controlled conditions, for the Foidel Creek Mine upon compliance with the terms and conditions.

Docket No.: M-1999-095-C.

FR Notice: 64 FR 57662.

Petitioner: Wabash Mine Holding Company.

Regulation Affected: 30 CFR 75.332(a)(2).

Summary of Findings: The petitioner's proposal is to use two continuous miners within the same split of air. The petitioner proposes to allow one continuous miner to clean up the working face cut it previously mined while a second continuous miner on the section starts to cut and load coal from another working face on the same working section, all on the same single split of intake air. This is considered an acceptable alternative method for the Wabash Mine. MSHA grants the petition for modification for the Wabash Mine with conditions.

Docket No.: M-1999-122-C.

FR Notice: 64 FR 70732.

Petitioner: McElroy Coal Company.

Regulation Affected: 30 CFR 75.364(b)(1).

Summary of Findings: The petitioner's proposal is to conduct weekly examinations of designated monitoring stations instead of traveling and conducting weekly examinations in certain intake and return entries of the McElroy Mine. The petitioned areas are the same as those already granted modifications of the standard (old standard 30 CFR 75.305 for weekly examinations now addressed under 30 CFR 75.364) to allow daily evaluations of unsafe-for-travel aircourse segments at monitoring stations in lieu of travel in previous Proposed Decisions and Orders (PDOs) Docket Number M-91-078-C issued June 16, 1992; Docket Number M-92-142-C issued June 2, 1993; and Docket Number M-93-007-C issued October 28, 1993, and Amended December 8, 1997. This is considered an acceptable alternative method for the McElroy Mine. MSHA grants the petition for modification for evaluation of one unsafe-for-examination intake aircourse segment and two unsafe-for-travel segments of designated return aircourses, one of which includes the B North Mine seals near the Fish Creek air shaft for the McElroy Mine with conditions.

Docket No.: M-1999-123-C.

FR Notice: 64 FR 70732.

Petitioner: Blue Mountain Energy, Inc.

Regulation Affected: 30 CFR 75.500(d).

Summary of Findings: The petitioner's proposal is use low-voltage non-permissible electronic testing or diagnostic equipment in or inby the last open crosscut. This is considered an acceptable alternative method for the Deserado Mine. MSHA grants the petition for modification for the use of low voltage or battery powered non-permissible electronic testing and diagnostic equipment taken into or inby the last open crosscut for the Deserado Mine with conditions.

Docket No.: M-1999-150-C.

FR Notice: 64 FR 5701.

Petitioner: Perry County Mining Company.

Regulation Affected: 30 CFR 75.364(b)(1).

Summary of Findings: The petitioner's proposal is to establish four check points in certain areas of the intake aircourse as air measurement stations, due to deteriorating roof conditions. This is considered an acceptable alternative method for the Eas No. 1 Mine. MSHA grants the petition for modification for the examination of approximately 5,600 feet of unsafe-to-travel intake aircourse beginning in the mains inby the Big Creek Fan and into the Rolls Mains to allow effective evaluation of air flow quantity and quality entering and leaving the petitioned, unsafe-for-travel, intake aircourse segment of for the Eas No. 1 Mine with conditions.

Docket No.: M-2000-007-M.

FR Notice: 65 FR 58821.

Petitioner: Sierra Minerals Corporation.

Regulation Affected: 30 CFR 57.17010.

Summary of Findings: The petitioner's proposal is to eliminate the use of cap lamp during daylight hours at its quarry operation because there is enough natural lighting in all working areas of the quarry to provide illumination under all operating conditions and for safe exit from the working areas and that quarry work is done only in daylight hours. The petitioner will use cap lamps if it is necessary to extend work into hours of darkness. This is considered an acceptable alternative method for the Yule Quarry Mine. MSHA grants the petition for modification for the Yule Quarry Mine with conditions.

Docket No.: M-2000-009-M.

FR Notice: 65 FR 64262.

Petitioner: Echo Bay Minerals Company.

Regulation Affected: 30 CFR 49.8(b).

Summary of Findings: The petitioner's proposal is to participate in the Central Mine Rescue (CMR) of Wallace, Idaho, which consists of four training sessions per year, once per quarter, for the team in addition to annual Refresher and Competition training. This is considered an acceptable alternative method for the Echo Bay Minerals, Kettle River Operations, comprised of the K-2 Mine Site, and the Lamefoot Mine Site. MSHA grants the petition for modification with conditions provided that all mine rescue members receive at least 40 hours of refresher training annually, that any member that is unable to attend a training session make up that training within the 30 days following the session missed or the mine rescue member will not be eligible until that training is made up.

[FR Doc. 01-30941 Filed 12-14-01; 8:45 am].

BILLING CODE 4510-43-P